NUCLEAR WASTE TECHNICAL REVIEW BOARD

Notice of Meeting; Yucca Mountain, NV, Repository

Board Workshop: July 19-20, 2001—Arlington, Virginia: The Board-sponsored workshop will provide a forum for invited international participants to discuss key issues related to the corrosion of materials being proposed by the Department of Energy for use in waste packages in a potential Yucca Mountain Repository.

Pursuant to its authority under section 5051 of Public Law 100-203, Nuclear Waste Policy Amendments Act of 1987, on Thursday, July 19, and Friday morning, July 20, 2001, the Nuclear Waste Technical Review board (Board) will host a workshop in Arlington, Virginia. The workshop will focus on issues related to long-term (thousands of years) extrapolation of the corrosion resistance of waste package materials being proposed by the U.S. Department of Energy (DOE) for use in a potential Yucca Mountain repository. Approximately 15 corrosion experts from around the world have been invited to participate in the workshop. The Board has long emphasized the importance of issues related to predicting long-term waste package performance. Progress in understanding fundamental corrosion processes has been identified by the Board as one of four priority areas that would be important for a potential Yucca Mountain site recommendation.

The DOE is characterizing a site at Yucca Mountain, Nevada, as the possible location of a permanent repository for spent nuclear fuel and high-level radioactive waste. The Board is charged by Congress with reviewing the technical and scientific validity of DOE activities related to managing spent nuclear fuel and high-level radioactive waste.

The workshop will be held at the Hilton Arlington & Towers; 950 North Stafford Street; Arlington, Virginia 22203. The telephone number is (703) 528-6000; the fax number is (703) 812-5127. The workshop, which is open to the public, will start at 8:30 a.m. on both days and end at approximately 5:30 p.m. on Thursday and 12:00 noon of Friday.

Workshop participants will be given two questions to consider. The questions will seek opinions on possible modes of waste package corrosion that may not be relevant in the usual time frame of engineering experience, but that could develop or accelerate after long periods in a repository. (The questions will be posted on the Board's Web site by July 1.)

The session on Thursday, July 19, will begin with a brief overview of the materials that the DOE proposes for the waste packages and of the thermal and chemical environments that the packages would likely experience over millennia in a possible Yucca Mountain repository. Following the overview, the workshop participants will give short presentations on their initial responses to the two questions. The balance of the workshop will consist of informal roundtable discussions focusing on the two questions. The workshop will be a “brainstorming” session designed to furnish the Board with a diversity of highly qualified opinions on the issue of extrapolating corrosion resistance over very long periods, a key factor in repository performance. A by-product of the workshop may be information that will complement a peer review that the DOE recently initiated to examine a much broader range of corrosion issues.

Opportunities for public comment will be provided before the end of Thursday's session and before adjournment of Friday. Those wanting to speak during the public comment periods are encouraged to sign the “Public Comment Register” at the check-in table. A time limit may have to be set on individual remarks, but written comments of any length may be submitted for the record.

A detailed agenda will be available approximately one week before the meeting. Copies of the agenda can be requested by telephone or obtained from the Board's Web site at www.nwtrb.gov. Beginning on September 1, 2001, transcripts of the workshop will be available on the Board's Web site, via e-mail, on computer disk, and on a library-loan basis in paper format from Davonya Barnes of the Board staff.

A block of rooms has been reserved at the Arlington Hilton & Towers. When making a reservation, please state that you are attending the NWTRB workshop. To obtain the special workshop rate, reservations must be made by June 27, 2001. For more information, contact the NWTRB; Karyn Severson, External Affairs; 2300 Clarendon Boulevard, Suite 1300; Arlington, VA 22201-3367; (tel) 703-235-4473; (fax) 703-235-4495; (e-mail) info@nwtrb.gov.

The Nuclear Waste Technical Review board was created by Congress in the Nuclear Waste Policy Amendments Act of 1987. The Board's purpose is to evaluate the technical and scientific validity of activities undertaken by the Secretary of Energy related to managing the disposal of the nations's spent nuclear fuel and high-level radioactive waste. In the same legislation, Congress directed the DOE to characterize a site at Yucca Mountain, Nevada, to determine its suitability as the location of a potential repository for the permanent disposal of spent nuclear fuel and high-level radioactive waste.

Dated: June 15, 2001.
William D. Barnard,
Executive Director Nuclear Waste Technical Review Board.

[FR Doc. 01-15586 Filed 6-20-01; 8:45 am]

BILLING CODE 6820-AM-M